DEPARTMENT OF ENERGY

Federal Energy Regulatory Commission

[Docket No. RP04-35-002]

Williston Basin Interstate Pipeline Company; Notice of Compliance Filing

December 16, 2003.

Take notice that on December 8, 2003, Williston Basin Interstate Pipeline Company (Williston Basin), tendered for filing its response to the Commission's Order issued November 28, 2003 in Docket No. RP04-35-000.

Williston Basin states that on November 28, 2003, the Commission issued its Order in the above referenced docket, and accepted Williston Basin's negotiated service agreement with Prairielands Energy Marketing, Inc. to be effective November 1, 2003, subject to Williston Basin making a compliance filing to address the conditions of the Order. Williston Basin states that the instant filing is being made in compliance with the provisions of that Order.

Any person desiring to protest said filing should file a protest with the Federal Energy Regulatory Commission, 888 First Street, NE., Washington, DC 20426, in accordance with Section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the “e-Filing” link.

Magalie R. Salas,
Secretary.

[FR Doc. E3-00629 Filed 12-23-03; 8:45 am]

BILLING CODE 6717-01-P